DEPARTMENT OF EDUCATION

[Docket ID ED-2018-FSA-0015]

Privacy Act of 1974; Matching Program

AGENCY: Federal Student Aid, Department of Education.

ACTION: Notice of a New Matching Program; correction.

SUMMARY: On June 1, 2018, we published in the Federal Register a notice of the renewal of the computer matching program between the Department of Education (ED) (recipient agency) and the Department of Justice (DOJ) (source agency). This notice corrects the Docket ID number.

DATES: Submit your comments on the proposed matching program on or before July 2, 2018.

SUPPLEMENTARY INFORMATION:

Correction

In FR Doc. 2018-11856, on page 25446 in the right-hand column, after the Department of Education agency heading, we correct the Docket ID number to ED-2018-FSA-0015.

Program Authority: 5 U.S.C. 552a; 21 U.S.C. 862(a)(1).

FOR FURTHER INFORMATION CONTACT: Marya Dennis, Management and Program Analyst, U.S. Department of Education, Federal Student Aid, Union Center Plaza, 830 First Street NE, Washington, DC 20202-5454. Telephone: (202) 377-3385.

If you use a telecommunications device for the deaf (TDD) or a text telephone (TTY), call the Federal Relay Service, toll free, at 1-800-877-8339.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: June 11, 2018.
James F. Manning,
Acting Chief Operating Officer Federal Student Aid.

[FR Doc. 2018-12822 Filed 6-13-18; 8:45 am]

BILLING CODE 4000-01-P